DEPARTMENT OF COMMERCE

National Oceanic and Atmospheric Administration

RIN 0648-XF216

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an exempted fishing permit application contains all of the required information and warrants further consideration. This permit would allow a commercial fishing vessel to test the economic viability of using electric jigging machines to target pollock in the Western Gulf of Maine Closure Area, and to temporarily retain undersized catch for measurement and data collection.

Regulations under the Magnuson-Stevens Fishery Conservation and Management Act require publication of this notification to provide interested parties the opportunity to comment on applications for proposed exempted fishing permits.

DATES: Comments must be received on or before March 31, 2017.

ADDRESSES: You may submit written comments by any of the following methods:

• Email: NMFS.GAR.EFP@noaa.gov. Include in the subject line “Comments on Rod and Reel Fishing in WGOM Closed Area EFP.”

• Mail: John K. Bullard, Regional Administrator, NMFS, Greater Atlantic Regional Fisheries Office, 55 Great Republic Drive, Gloucester, MA 01930. Mark the outside of the envelope “Comments on Electric Jigging Machine Fishing in WGOM Closed Area EFP.”

FOR FURTHER INFORMATION CONTACT: Kyle Molton, Fishery Management Specialist, 978-281-9236, Kyle.Molton@noaa.gov.

SUPPLEMENTARY INFORMATION: A commercial fisherman submitted a complete application for an exempted fishing permit (EFP) on November 29, 2016, to conduct commercial fishing activities that the regulations would otherwise restrict. The EFP would authorize one vessel to use electric jigging machines in the Western Gulf of Maine (WGOM) Closure Area and to temporarily retain undersized catch for measurement and data collection. An identical EFP was issued in 2016, but no experimental fishing occurred under the previously issued EFP due to the timing of the EFP issuance and fish availability.

The project, titled “Utilization of Electric Rod and Reel to Target Pollock in WGOM Closed Area,” would be conducted by a commercial fisherman as a pilot study to test the economic viability of using electric jigging machines to target pollock while avoiding non-target catch. The study would take place in the WGOM Closure Area, from June through August 2017, with one vessel planning to fish up to 5 days per month for a total of approximately 15 trips. The exemptions are necessary because vessels on commercial groundfish trips are prohibited from fishing in the WGOM Closure Area and from retaining undersized groundfish. The vessel would use four electric jigging machines for at least 4 to 6 hours per trip, with an additional 5 to 6 hours of steaming, for a total trip of approximately 12 hours. Fishing would primarily occur within the WGOM Closure Area, in the area known as “The Fingers,” with some effort being conducted outside the area. The applicant is requesting access to the WGOM Closure Area based on reports that pollock are seasonally concentrated in this area, and the likelihood that they can be targeted with minimal catch of non-target species.

A research technician or at-sea monitor would accompany all trips that occur under this EFP to measure and document fish caught, and document fishing gear, bait, location, and fishing conditions to evaluate gear performance. The captain would also document fishing practices. Undersized fish would be discarded as quickly as possible after sampling. All Northeast multispecies of legal size would be landed, and all catch would be attributed to the vessel's sector annual catch entitlement. Proceeds from the sales would be retained by the vessel. The applicant would document ex-vessel price for all sold catch by species and grade for comparison with other harvest methods. The participating vessel would not be exempt from any sector monitoring or reporting requirements.

If approved, the applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: March 13, 2017.
Karen H. Abrams,
Acting Deputy Director, Office of Sustainable Fisheries, National Marine Fisheries Service.

[FR Doc. 2017-05267 Filed 3-15-17; 8:45 am]

BILLING CODE 3510-22-P